DEPARTMENT OF COMMERCE

Foreign-Trade Zones Board

[B-78-2015]

Foreign-Trade Zone (FTZ) 45—Portland, Oregon; Notification of Proposed Production Activity; Lam Research Corporation; Subzone 45H; (Semiconductor Production Equipment, Subassemblies and Related Parts) Tualatin and Sherwood, Oregon

The Port of Portland, grantee of FTZ 45, submitted a notification of proposed production activity to the FTZ Board on behalf of Lam Research Corporation (Lam), operator of Subzone 45H, at sites in Tualatin and Sherwood, Oregon. The notification conforming to the requirements of the regulations of the FTZ Board (15 CFR 400.22) was received on November 6, 2015.

The facilities are used for the production of semiconductor production equipment, subassemblies and related parts. Pursuant to 15 CFR 400.14(b), FTZ activity would be limited to the specific foreign-status materials and components and specific finished products described in the submitted notification (as described below) and subsequently authorized by the FTZ Board.

Production under FTZ procedures could exempt Lam from customs duty payments on the foreign-status components used in export production. On its domestic sales, Lam would be able to choose the duty rate during customs entry procedures that applies to semiconductor production equipment, subassemblies and related parts (duty free) for the foreign-status inputs noted below. Customs duties also could possibly be deferred or reduced on foreign-status production equipment.

The components and materials sourced from abroad include: Clean room grease and lubricants; caulking compounds; petroleum-based greases and similar lubricants; polymer-based adhesives; wafers and partial-wafers principally of silicon or germanium intended for testing purposes and not for commercial production of semi-conductors; PH buffer solutions and litmus paper; fluorinated and other polyether-based lubricants; polyethylene tubes, pipes and hoses; polypropylene tubing; PVC tubing; plastic tubing; flexible tubes, pipes and hoses of plastics; flexible plastic tubing with/without fittings; plastic tube fittings; foam tapes; scotch tapes, packing tapes, and similar tapes; electrical tapes; reflective tapes; plastic labels; plastic signs and similar plates of polymer plastics; polycarbonate windows; shims of polyester plastics; Teflon wraps and pads; protection and insulation pads of polyurethane plastics; wipes of polyurethane plastics; plastic templates for facilities layout; plastic film sheets and foam strips for packaging; plastic boxes and crates; reservoirs and tanks of plastics principally in the form of polypropylenes and fluoropolymers; plastic caps; plastic packing materials; plastic o-rings, gaskets, washers, seals, and timing belts; plastic clips and similar attaching devices; plastic tinting lenses; plastic bushings; plastic hole plugs; plastic screws, pins, and similar fasteners; plastic brackets and mounts; plastic wafer clamps; plastic parts not otherwise identified in the HTSUS*; unreinforced rubber tubing with fittings; reinforced rubber tubing with/without fittings; transmission belts; rubber gaskets, washers and seals; rubber caps; rubber sheets, grommets, bladders, collars and parts not otherwise identified in the HTSUS*; wooden crates for packing; paper labels; gaskets, washers and other seals of paper; technical manuals, procedures, and work instructions; certificates, brochures, other work documents other than manuals; duct tape; nonelectrical components and accessories of graphite and carbon fiber made predominantly in the form of fiber plate disks or grafoil liner “choke” rings*; porcelain or china ceramic machinery components, rings, disks, RF “window” disks, plates, liners, shields, guards, end effectors, plugs, screws, components and accessories*; ceramic components, rings, RF “window” disks, plates, guards, end effectors, plugs, and screws*; quartz reactor tubes; fused silica and fused quartz components, disks, windows, liners, rings, tubes, holders, and funnels*; sapphire pins, balls, shims, windows/viewports, liners, tubes, components and accessories*; steel pipes; cast steel fittings; stainless flanges; stainless steel pipes- sleeves; stainless steel pipes- elbows; stainless steel, not cast, fittings for tubes and pipes; other steel fittings; steel roller chains; steel link chains; steel chain links; steel screws- springs; steel socket head screws; steel grub screws; steel nuts; other threaded steel fasteners; steel spring washers; iron or steel washers other than spring washers; steel retaining rings; steel fasteners without threads; steel springs; steel gas springs, wave springs, and plunger springs; compression springs; belts and inserts of steel wire; steel parts, bushings, collars, blocks, rings, seals, and plates*; bus bars, ground bars, and rods of copper; copper tubing; copper alloy for tubes and pipes; copper washers; small brass screws; copper threaded fittings; copper parts, straps, anodes, sleeves, shields, gaskets, pins, and screens*; nickel screws, shims, orifices, washers, straps, anodes, sleeves, shields, gaskets, pins, springs, nuts, and screens; nameplates; rods and rails of aluminum; aluminum tubing; aluminum alloy tubing; aluminum fittings for tubes and pipes; aluminum screws; aluminum fasteners; aluminum covers, spinners, sleeves and screens*; zinc fittings, screws, fasteners, and backshells; titanium pins, screws, washers, bolts, nuts, inserts, and plates; saw blades; pliers; knockout punches and hose cutters; hand-operated adjustable-flat spanners and torque wrenches; hand-operated adjustable spanners and wrenches—other; socket wrenches; drills; screwdrivers; other hand tools, extraction tools, debar tools, and epoxy removal tips, and install tools; grease guns; metal clamps; manual drills; drill bits; padlocks; locks other than padlocks; keys; hinges and parts; casters; metal fittings of a type for buildings; metal fittings of a type for furniture; iron/steel/aluminum/zinc mountings, fittings, straps, clamps, brackets, levelers, struts and valves; base metal brackets; braided steel tubing and hoses; braided metal tubing; air cylinders and other pneumatic power engines; pneumatic power engines other than linear acting; shock absorbers; parts for pneumatic engines; diaphragm pumps for liquids and gases; centrifugal pumps for liquids and gases; syringe and other pumps; parts of centrifugal pumps; vacuum pumps; fans; parts of fans- metal wires, pump actuators; heat exchange units; evaporators for use in semi-conductor manufacturing equipment; heaters for use in semi-conductor manufacturing equipment; parts of heat exchange units; parts of heaters; water filters; liquid filtration devices; air and other gas filtration devices; filter parts; chemical applicators; nozzles and orifices; lift and handling fixtures; housing bearings and plain shaft bearings; computer laptops; computers; keyboards and computer peripherals; hard disk drives and optical drives; hubs; interface and input/output cards and similar interface articles; “dongles”: Peripheral pieces of hardware intended to interface with a computer to enable additional functions such as copy protection or authentication; optical readers; printed circuit assemblies; teaching pendants and terminals; valves (pressure reducing, air flow control, check valves, safety, solenoid, liquid control, electric, pneumatic, bellows, butterfly, ball and vacuum); other manual valves of steel; vacuum and other manual valves of fluorocarbons, polyethers, and polyvinyl chloride; valve parts; bearings (ball, roller, bearing rings, transmission shaft, roller, housing, and plain shaft); fixed, multiple and variable ration speed changers, ball or roller screws; pulleys; shaft couplings; gear parts made of steel; mechanical gaskets; mechanical seals; gaskets sets; machines for the production of semiconductors; tools and process modules for chemical vapor deposition/physical vapor deposition/plasma dry etch/stripping of photo resist/ultraviolet thermal processing/wafer cleaning for semi-conductor production; conductor material deposition process modules and machines for wafer packaging; transport modules; wafer transport robots; baffles, bellows, bezels, wafer chucks and related parts designed specifically for semiconductor manufacturing equipment; complex elements in the form of tubing for distribution of gases and fluids and pneumatic harnesses, designed specifically for semiconductor manufacturing equipment; radio frequency and high frequency electrodes and related parts; drive units for process modules gap management; structural elements designed specifically for semiconductor manufacturing equipment and transport modules; fluid and gas distribution modules and assemblies and structural parts and components designed for these modules; printed circuit board assemblies and control assemblies for system management or signal interface and distribution; metal and plastic (including silicon) parts designed for semiconductor manufacturing equipment and transport modules; plasma sources for semiconductor manufacturing equipment; silicon rings; radio frequency and high frequency coils and electrodes and related parts designed specifically for semiconductor manufacturing equipment for plasma generation; radio frequency generators and related structural components designed specifically for semiconductor manufacturing equipment; radio frequency matching networks and related structural; metal and plastic (including silicon) parts designed for semiconductor transport equipment; fluid management tanks; mechanical brakes; electric motors; universal AC/DC motors; lamp ballasts; electrical transformers; power suppliers; static converters; inductors; parts of power supplies; magnets; magnetic brakes; manganese dioxide batteries; lithium batteries; portable electric lamps; resistive heating elements; network equipment; training videos on tape; unrecorded magnetic media; software on CD-ROM or similar optical storage units; video cameras; LCD computer; general use motors; LED indicators; electric sound or visual signaling apparatus; tantalum fixed capacitors; single layer ceramic dielectric fixed capacitors; multi-layer ceramic dielectric fixed capacitors; fixed electrical capacitors; variable or adjustable capacitors; composition or film type fixed carbon resistors and attenuators; other resistors; other fixed carbon resistors and attenuators; potentiometers; electrical variable resistors other than other potentiometers; raw circuit boards; ion bars; fuses made of glass and other materials with both high and low amps; circuit breakers; electromechanical relays; switches; lamp holders and contactors; terminals and connectors; connectors—assemblies, converters, receptacle panels, interlock converters, electrical ducts and lock-outs; electrical terminals and terminal blocks; conduit assemblies, backshells, buses, and similar connectors; control apparatus- assemblies, couplers, cards, valve cards, drivers, load ports, terminal boards, programmable controllers, and motion controllers; connector sockets; tungsten lamps; fluorescent lamps; arc lamps; ultra violet lamps; parts of electrical filament or discharge lamps; magnetrons and magnetron tubes; diodes; transistors; LED lamps, oscillators, photo sensors and fiber optic sensors; processor and logic controller integrated circuits; memory cards; integrated circuit amplifiers; other non-processor, non-memory integrated circuits; equipment for performing electrolysis; insulated electrical cable wire; coax cables; USB, ethernet, and similar cables with connectors; cables with connectors; insulated wire cable without connectors; fiber optic cables; ceramic insulators; electrical insulators; insulating fittings—ceramic; insulating fittings of plastic; quartz rings; electric filter devices; dollies; optic fibers; optical lenses and mirrors; optical filters and windows; mounted windows and lenses; prisms; flat panel displays; optical amplifiers; non-electric levels; calipers and linear gauges; hand instruments for measuring length; linear gauge clamps and heads; caliper clamps and heads; face shields with respirators; electrical temperature, thermocouples and temperature gauges; flow meters, level gauges and similar fluid measurement equipment; electrical pressure checking and measurement equipment; mechanical pressure checking and measurement equipment; leak sensors; interferometers and hydrogen sensors; gas analysis systems; spectrometers; optical temperature sensors; PH analysis sensors, controllers, probes and complete systems; parts of gas analysis systems; speedometers and tachometers; power analyzers principally in the form of voltage detectors, probes, monitors and measurement cards; test fixtures and similar electrical analysis systems; wafer measurement equipment; leak detectors; parts of equipment used for checking electrical quantities; equipment for inspecting semiconductor wafers; optical inspection equipment; measuring equipment associated with semiconductor production; panels, frames, boards, blocks, doors, jigs, shafts, sides, and structural bases for test fixtures and electrical analysis systems; automatic thermostats and temperature control equipment; automatic manostats; vapor on demand injectors; process control equipment, (temperature controllers, pressure controllers, liquid controllers, mass flow controllers, pump controllers, and similar process control equipment); temperature controller parts; time switches, time relays and other timers; carts and racks for servers; and brushes (duty rates range from free to 10.7%). (*See Lam's production notification for additional descriptions of these products.)

Public comment is invited from interested parties. Submissions shall be addressed to the FTZ Board's Executive Secretary at the address below. The closing period for their receipt is December 29, 2015.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: November 13, 2015.
Elizabeth Whiteman,
Acting Executive Secretary.

[FR Doc. 2015-29580 Filed 11-18-15; 8:45 am]

BILLING CODE 3510-DS-P